DEPARTMENT OF TRANSPORTATION

Federal Aviation Administration

14 CFR Part 71

[Docket No. FAA-2022-1545; Airspace Docket No. 22-AEA-36]

RIN 2120-AA66

Amendment of Class D Airspace and Class E Airspace, East Hampton and Montauk, NY

AGENCY: Federal Aviation Administration (FAA), DOT.

ACTION: Final rule.

SUMMARY: This action amends Class D airspace, Class E surface airspace, and Class E airspace extending upward from 700 feet above the surface for East Hampton Town Airport, East Hampton, NY, by updating the airport name. In addition, this action makes an editorial change, removing the reference to Block Island, R.I., and East Hampton from the Class E airspace description of Montauk Airport, Montauk, NY, and updates the airport's geographic coordinates. This action does not change the airspace boundaries or operating requirements of either airport.

DATES: Effective 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/ For further information, contact the Airspace Policy Group, Federal Aviation Administration, 800 Independence Avenue SW, Washington, DC 20591; telephone: (202) 267-8783.

FOR FURTHER INFORMATION CONTACT: John Fornito, Operations Support Group, Eastern Service Center, Federal Aviation Administration, 1701 Columbia Avenue, College Park, GA 30337; Telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends airspace in East Hampton and Montauk, NY, to support IFR operations in the area. This update is an administrative change and does not change the airspace boundaries or operating requirements.

Availability and Summary of Documents for Incorporation by Reference

This document amends FAA Order JO 7400.11G, Airspace Designations and Reporting Points, dated August 19, 2022, and effective September 15, 2022. FAA Order JO 7400.11F is publicly available as listed in the ADDRESSES section of this document. FAA Order JO 7400.11G lists Class A, B, C, D, and E airspace areas, air traffic service routes, and reporting points.

The Rule

This amendment to 14 CFR part 71 amends the Class D airspace, Class E surface airspace, and Class E airspace extending upward from 700 feet above the surface at East Hampton Town Airport (formerly East Hampton Airport), East Hampton, NY, by updating the airport's name. In addition, this action amends Class E airspace extending upward from 700 feet above the surface at Montauk, Airport, Montauk, NY, by removing the reference of Block Island, R.I. and East Hampton, NY, from the airspace description, as it is unnecessary. Also, the Montauk Airport's geographic coordinates are updated to coincide with the FAA's database.

This action is an administrative change and does not affect the airspace boundaries or operating requirements; therefore, notice and public procedure under 5 U.S.C. 553(b) is unnecessary.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71 —DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order 7400.11G, Airspace Designations and Reporting Points, dated August 19, 2022, and effective September 15, 2022, is amended as follows:

Paragraph 5000 Class D Airspace.

* * * * *

AEA NY D East Hampton, NY [Amended]

East Hampton Town Airport, NY

(Lat. 40°57′34″ N, long. 72°15′06″ W)

That airspace extending upward from the surface up to and including 2,000 feet MSL within a 4.2-mile radius of East Hampton Town Airport. This Class D airspace area is effective during specific dates and times established in advance by a Notice to Airmen. The effective date and time will thereafter be continuously published in the Chart Supplement.

Paragraph 6002 Class E Surface Airspace.

* * * * *

AEA NY E2 East Hampton, NY [Amended]

East Hampton Town Airport, NY

(Lat. 40°57′34″ N, long. 72°15′06″ W)

That airspace extending upward from the surface within a 4.2-mile radius of East Hampton Town Airport. This Class E airspace area is effective during specific dates and times established in advance by a Notice to Air Missions. The effective date and time will thereafter be continuously published in the Chart Supplement.

Paragraph 6005 Class E Airspace Areas Extending Upward From 700 feet or More Above the Surface of the Earth.

* * * * *

AEA NY E5 East Hampton, NY [Amended]

East Hampton Town Airport, NY

(Lat. 40°57′34″ N, long. 72°15′06″ W)

That airspace extending upward from 700 feet above the surface within a 7.3-mile radius of East Hampton Town Airport.

AEA NY E5 Montauk, NY [Amended]

Montauk Airport, NY

(Lat. 41°04′36″ N, long. 71°55′14″ W)

Hampton VORTAC

(Lat. 40°55′08″ N., long. 72°19′00″ W)

That airspace extending upward from 700 feet above the surface within a 6.5-mile radius of Montauk Airport and within 4 miles of each side of the 062° bearing from the Hampton VORTAC extending from the 6.5-mile radius to 10 miles northeast of the VORTAC.

Issued in College Park, Georgia, on December 6, 2022.
Lisa Burrows,
Manager, Airspace & Procedures Team North, Eastern Service Center, Air Traffic Organization.

[FR Doc. 2022-26765 Filed 12-9-22; 8:45 am]

BILLING CODE 4910-13-P